INTERNATIONAL TRADE COMMISSION

[Investigation No. 337-TA-648]

Certain Semiconductor Integration Circuits Using Tungsten Metallization and Products Containing Same; Notice of Commission Decision To Dismiss the Investigation as Moot

AGENCY: U.S. International Trade Commission.

ACTION: Notice.

SUMMARY: Notice is hereby given that the U.S. International Trade Commission has determined to issue an order dismissing the above-captioned investigation as moot.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2008, based on a complaint filed on April 18, 2008, by LSI Corporation of Milpitas, California and Agere Systems Inc. of Allentown, Pennsylvania. The complaint, as amended, alleged violations of section 337 of the Tariff Act of 1930, as amended, 19 U.S.C. 1337, in the importation into the United States, the sale for importation, and the sale within the United States after importation of certain semiconductor integrated circuits using tungsten metallization and products containing the same by reason of infringement of one or more of claims 1, 3, and 4 of U.S. Patent No. 5,227,335 (“the `335 patent”). The amended complaint named numerous respondents. Several respondents were terminated from the investigation due to settlement or failure to name the proper party. The following six respondents remained in the investigation: Tower Semiconductor, Ltd. of Israel; Jazz Semiconductor of Newport Beach, California; Powerchip Semiconductor Corporation of Taiwan; Grace Semiconductor Manufacturing Corporation of China; Integrated Device Technology, Inc. of San Jose, California; and Nanya Technology Corporation of Taiwan. The complaint further alleged that an industry in the United States exists as required by subsection (a)(2) of section 337.

On March 22, 2010, the Commission issued notice of its final determination finding no violation, by reason of invalidity of the asserted claims of the `335 patent, of section 337 by the remaining respondents. Complainants appealed the Commission's final determination to the U.S. Court of Appeals for the Federal Circuit (“Federal Circuit”).

While the appeal was pending, the `335 patent expired. The Commission moved to dismiss the appeal as moot and complainants responded. On November 15, 2010, the Federal Circuit issued an order vacating the Commission's final determination and remanding the investigation to the Commission with instructions to dismiss the investigation as moot. LSI Corp v. United States Int'l Trade Commission, Appeal No. 10-1352 (Fed. Cir. Nov. 15, 2010). Accordingly, the Commission has determined to issue an order dismissing Investigation No. 337-TA-648 as moot.

The authority for the Commission's determination is contained in section 337 of the Tariff Act of 1930, as amended (19 U.S.C. 1337), and in section 210.41 of the Commission's Rules of Practice and Procedure (19 CFR 210.41).

By order of the Commission.
Issued: November 30, 2010.
Marilyn R. Abbott,
Secretary to the Commission.

[FR Doc. 2010-30421 Filed 12-3-10; 8:45 am]

BILLING CODE 7020-02-P